ENVIRONMENTAL PROTECTION AGENCY

[FRL-8020-8]

Proposed CERCLA Administrative Cost Recovery Settlement; Lee County Housing Authority

AGENCY: Environmental Protection Agency.

ACTION: Notice; request for public comment.

SUMMARY: In accordance with section 122(i) of the Comprehensive Environmental Response, Compensation, and Liability Act, as amended (“CERCLA”), 42 U.S.C. 9622(i), notice is hereby given of eight proposed administrative settlements for recovery of past response costs concerning the New Buffalo site in New Buffalo, Michigan, with the following settling parties: Bechstein Construction Company; Champion Environmental Services, Inc.; Community School District 200; Lee County Housing Authority; Loyola University of Chicago; Loyola University Medical Center; North Central College; and Northern Illinois University. The settlements with Community School District 200, Lee County Housing Authority, Loyola University of Chicago, Loyola University Medical Center, North Central College, and Northern Illinois University require each of the settling parties to pay $3,000 to the Hazardous Substance Superfund.

The settlement with Bechstein Construction Company requires it to pay $4,000 to the Hazardous Substance Superfund. The settlement with Champion Environmental Services, Inc., requires it to pay $5,000 to the Hazardous Substance Superfund. Each settlement includes a covenant not to sue the settling party under section 107(a) of CERCLA, 42 U.S.C. 9607(a), and provides the settling party with protection from contribution actions or claims as provided by sections 113(f) and 112(h)(4) of CERCLA, 42 U.S.C. 9613(f) and 9622(h)(4), for past response costs at the site. For 30 days following the date of publication of this notice, the Agency will receive written comments relating to the settlements. The Agency will consider all comments received and may modify or withdraw its consent to any of the settlements if comments received disclose facts or considerations which indicate that the settlement is inappropriate, improper, or inadequate. The Agency's response to any comments received will be available for public inspection at U.S. EPA's Region 5 Office at 77 West Jackson Boulevard, Chicago, Illinois 60604 and the New Buffalo Township Public Library, 33 North Thompson Street, New Buffalo, Michigan 49117.

DATES: Comments must be submitted on or before February 13, 2006.

ADDRESSES: The proposed settlements are available for public inspection at U.S. EPA's Region 5 Record Center, 7th Floor, 77 West Jackson Boulevard, Chicago, Illinois 60604.

A copy of any of the proposed settlements may be obtained from Ann Coyle, Associate Regional Counsel, 77 West Jackson Boulevard, Chicago, Illinois 60604, telephone (312) 886-2248. Comments should reference the New Buffalo site, New Buffalo, Michigan, the name of the settling party, and the EPA Docket Number, which is stamped on the first page of each settlement agreement, and should be addressed to Ann Coyle, Associate Regional Counsel, 77 West Jackson Boulevard (C-14J), Chicago, Illinois 60604.

FOR FURTHER INFORMATION CONTACT: Ann Coyle, Associate Regional Counsel, 77 West Jackson Boulevard (C-14J), Chicago, Illinois 60604, telephone (312) 886-2248.

Dated: December 20, 2005.
Richard Karl,
Director, Superfund Division.

[FR Doc. E6-226 Filed 1-11-06; 8:45 am]

BILLING CODE 6560-50-P